FEDERAL COMMUNICATIONS COMMISSION

47 CFR Part 11

[PS Docket No. 15-94, FCC 18-39; PS Docket Nos. 15-91, 15-94, FCC 18-94]

Emergency Alert System; Wireless Emergency Alerts

AGENCY: Federal Communications Commission.

ACTION: Final rule; announcement of effective date.

SUMMARY: In this document, the Commission announces that the Office of Management and Budget (OMB) has approved, for a period of three years, the information collection associated with the State EAS Plan Order and Alerting Reliability Order. This document is consistent with the State EAS Plan Order, which stated that the Commission would publish a document in the Federal Register announcing OMB approval of these rules, and the Alerting Reliability Order, which stated that the Commission would publish a document in the Federal Register announcing the effective date of these rules.

DATES: Effective date: The amendments to 47 CFR 11.45(b) and 11.61 published at 83 FR 39610, August 10, 2018, are effective July 23, 2019.

Compliance date: The Commission will publish a document in the Federal Register announcing the compliance date for the amendments to 47 CFR 11.18 and 11.21. See the SUPPLEMENTARY INFORMATION for additional details.

FOR FURTHER INFORMATION CONTACT: Nicole McGinnis, Deputy Bureau Chief, Public Safety and Homeland Security Bureau, at (202) 418-7452, or by email at Nicole.McGinnis@fcc.gov.

SUPPLEMENTARY INFORMATION: This document announces that, on June 17, 2019, OMB approved, until June 30, 2022, the information collection requirements associated with (i) the Commission's State EAS Plan Order, PS Docket No. 15-94, FCC 18-39, adopted on March 28, 2018, released on April 10, 2018, and published at 83 FR 37750, August 2, 2018, which among other things required State Emergency Communications Committees (SECC) to file State EAS Plans electronically and established an online Alert Reporting System (ARS) for that purpose; and, (ii) the false alert notification requirements, and rules governing “Live Code Tests” of the EAS contained in the Commission's Alerting Reliability Order, PS Docket Nos. 15-94 and 15-91, FCC 18-94, adopted on July 12, 2018, released on July 13, 2018, and published at 83 FR 39610, August 10, 2018. The Commission publishes this document as an announcement of the effective date of the false alert notification requirements, and rules governing “Live Code Tests” of the EAS contained in the Commission's Alerting Reliability Order. In addition, the Commission publishes this document as an announcement of OMB's approval of the information collection requirements associated with the State EAS Plan online reporting requirements contained in the Commission's State EAS Plan Order. The State EAS Plan Order stated that compliance with the State EAS Plan online reporting requirements would be required within one year of publication in the Federal Register of a Public Notice announcing: (i) OMB approval of ARS information collection requirements or (ii) the availability of the ARS to receive such information, whichever is later. Accordingly, compliance with the State EAS Plan online reporting requirements contained in the Commission's State EAS Plan Order will be required within one year of publication in the Federal Register of a Public Notice announcing the availability of the ARS for filing State EAS Plans.

If you have any comments on the burden estimates listed below, or how the Commission can improve the collections and reduce any burdens caused thereby, please contact Nicole Ongele, Federal Communications Commission, Room 1-A620, 445 12th Street SW, Washington, DC 20554. Please include the OMB Control Number, 3060-0207, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on June 17, 2019, for the information collection requirements contained in the modifications to the Commission's rules in 47 CFR part 11. Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0207.

The foregoing notice is required by the Paperwork Reduction Act of 1995, Public Law 104-13, October 1, 1995, and 44 U.S.C. 3507.

The total annual reporting burdens and costs for the respondents are as follows:

OMB Control Number: 3060-0207.

OMB Approval Date: June 17, 2019.

OMB Expiration Date: June 30, 2022.

Title: Part 11, Emergency Alert System, (EAS), Orders, FCC 18-94.

Form Number: N/A.

Respondents: Business and other for-profit entities, Not-for-profit institutions, and State, Local and Tribal Government.

Number of Respondents and Responses: 63,084 respondents; 3,588,830 responses.

Estimated Time per Response: 0.017-100 hours.

Frequency of Response: One-time reporting requirement and on-occasion reporting requirements.

Obligation to Respond: Mandatory. The statutory authority for this information collection is contained in sections 1, 2, 4(i), 4(o), 301, 303(r), 303(v), 307, 309, 335, 403, 624(g), 706, and 715 of the Communications Act of 1934, as amended, 47 U.S.C. 151, 152, 154(i), 154(o), 301, 303(r), 303(v), 307, 309, 335, 403, 544(g), 606, and 615.

Total Annual Burden: 140,751 hours.

Total Annual Cost: No Cost.

Nature and Extent of Confidentiality: An assurance of confidentiality is not offered because this information collection does not require the collection of personally identifiable information (PII) from individuals.

Privacy Act Impact Assessment: No impact(s).

Needs and Uses: Section 11.21 of the Commission's part 11 (EAS) rules, 47 CFR 11.21, requires that State Emergency Communications Committees (SECC) prepare and submit State EAS Plans to the FCC for approval before State and local EAS alerts may be distributed within the state. On April 10, 2018, the Commission released the State EAS Plan Order, FCC 18-39, published at 83 FR 37750, August 2, 2018, requiring that SECCs file the State EAS Plans electronically using the ARS to provide a baseline level of uniformity across State EAS Plans, in terms of both format and terminology, and ensure more efficient and effective delivery of Presidential as well as state, local and weather-related alerts by providing the Commission, FEMA, and other authorized entities with the means to more easily review and identify gaps in the EAS architectures, detect problems, and take measures to address these shortcomings.

On July 13, 2018, the Commission released the Alerting Reliability Order, FCC 18-94, published at 83 FR 39610, August 10, 2018, which, among other things, required EAS Participants (the broadcasters, cable systems, and other service providers subject to the EAS rules) to notify the Commission (via email to the FCC Ops Center at FCCOPS@fcc.gov) within twenty-four (24) hours of the EAS Participant's discovery that it has transmitted or otherwise sent a false alert to the public, and codified requirements for conducting “Live Code Tests” of the EAS, which are local and regional tests of the EAS that use the same alert codes as, and function identically to, alerts issued for an actual emergency. The false alert notification requirements should provide the Commission with the information necessary to identify and mitigate problems associated with false EAS alerts. Codification of the “live code test” requirements removed the burdens associated with the filing of waiver requests to conduct such tests, while maintaining the safeguards that ensure “live code tests” will not confuse the public that the alert is only a test.

Federal Communications Commission.
Katura Jackson,
Federal Register Liaison Officer, Office of the Secretary.

[FR Doc. 2019-15602 Filed 7-22-19; 8:45 am]

BILLING CODE 6712-01-P